FEDERAL MEDIATION AND CONCILIATION SERVICE

Privacy Act of 1974; System of Records

AGENCY: Federal Mediation and Conciliation Service.

ACTION: Notice of a modified system of records.

SUMMARY: Federal Mediation and Conciliation Service (FMCS) uses photographs, biographies, and agency contact information of employees to provide background information to the public, for use by stakeholders in preparation for services, and for trainings and conferences. FMCS may also use these documents for internal agency events and communications. Photographs of FMCS clients engaging in FMCS services allows FMCS to represent the services FMCS provides to our clients. The notice amendment includes administrative updates to refine details published under summary, dates, addresses, supplementary information, purpose of the system, categories of records in the system, record source categories, routine uses, record access procedures, contesting records procedures, and the history section. These sections are amended to refine previously published information about the system of records. The further information contact, system name, security classification, system location, system manager, authority for maintenance of the system, categories of individuals covered by the system, policies and practices for storage of records, policies and practices for retrieval of records, policies and procedures for retention and disposal of records, administrative safeguards, notification procedures, and exemptions promulgated sections remain unchanged. This amended SORN deletes and supersedes the SORN published in the Federal Register on August 19, 2021.

DATES: This system of records will be effective without further notice on June 27, 2024 unless otherwise revised pursuant to comments received. Comments must be received on or before June 27, 2024.

ADDRESSES: You may send comments, identified by FMCS-0003, by any of the following methods:

• Mail: Office of General Counsel, 250 E Street SW, Washington, DC 20427.

• Email: register@fmcs.gov. Include FMCS-0003 on the subject line of the message.

• Fax: (202) 606-5444.

FOR FURTHER INFORMATION CONTACT: Greg Raelson, Director of Congressional and Public Affairs, at graelson@fmcs.gov or at (202) 606-8081.

SUPPLEMENTARY INFORMATION: The notice amendment includes administrative updates to refine details published under summary, dates, addresses, supplementary information, purpose of the system, categories of records in the system, record source categories, routine uses, record access procedures, contesting records procedures, and the history section. These sections are amended to refine previously published information about the system of records. The further information contact, system name, security classification, system location, system manager, authority for maintenance of the system, categories of individuals covered by the system, policies and practices for storage of records, policies and practices for retrieval of records, policies and procedures for retention and disposal of records, administrative safeguards, notification procedures, and exemptions promulgated sections remain unchanged.

This system is needed for collecting, storing, and maintaining FMCS employee biographical information and event photographs to include photographs of FMCS clients.

SYSTEM NAME AND NUMBER:

FMCS-0003

SECURITY CLASSIFICATION:

Unclassified.

SYSTEM LOCATION:

Federal Mediation and Conciliation Service, 250 E Street SW, Washington, DC 20427.

SYSTEM MANAGER(S):

Greg Raelson, Director of Congressional and Public Affairs, email graelson@fmcs.gov, or send mail to Federal Mediation and Conciliation Service, 250 E Street Southwest, Washington, DC 20427, Attn: Greg Raelson.

AUTHORITY FOR MAINTENANCE OF THE SYSTEM:

Federal Mediation and Conciliation Service, 29 U.S.C. 172, et seq.; Departmental Regulations, 5 U.S.C. 301.

PURPOSE(S) OF THE SYSTEM:

The purposes of the system are as follows:

(a) The records are used for internal and external communications, and to provide the public with contact information and biographies of the employees who carry out FMCS's mission and activities.

(b) To digitize FMCS photographic files in support of preserving the materials.

(c) To be used for reproduction by FMCS employees organizing such events as awards, ceremonies, farewell ceremonies and receptions, FMCS anniversary ceremonies and receptions, conferences, workshops, speaking engagements, and FMCS training and education programs.

(d) To provide a representation of the training and other services FMCS provides.

CATEGORIES OF INDIVIDUALS COVERED BY THE SYSTEM:

All current and former FMCS employees, clients, visitors from other agencies, and members of the public.

CATEGORIES OF RECORDS IN THE SYSTEM:

These records consist of digital photographs, digitized images of photographic prints, negatives, and slides, and indexing data including name, geographical district, biographies, business title, business email, business cell phone and office number, business office address, business address of events, client information, and name and dates of events.

RECORD SOURCE CATEGORIES:

Photographs, FMCS employee biographical information, and client information are provided by FMCS employees on an ongoing basis. Donors include FMCS employees, FMCS clients, and visitors from the public or other agencies. Other records such as contact information are obtained from FMCS records.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside the Agency as a routine use pursuant to 5 U.S.C. 552a(b)(3) as follows:

(a) As communication material at conferences, trainings, and speaking engagements where FMCS employees participate in their official capacity to demonstrate the experience and background of FMCS employees.

(b) To current and prospective FMCS clients including other federal agencies to provide background information on individuals for public knowledge and awareness.

(c) For distribution and presentation for news, public relations, official agency social media, community affairs, and client services purposes.

(d) In support of research activities conducted by FMCS employees and other agencies.

(e) To disclose information to a Member of Congress or a congressional office in response to an inquiry made on behalf of, and at the request of, an individual who is the subject of the record.

(f) In an appropriate proceeding before a court, grand jury, or administrative or adjudicative body or official, when FMCS or other Agency representing FMCS determines the records are relevant and necessary to the proceeding; or in an appropriate proceeding before an administrative or adjudicative body when the adjudicator determines the records to be relevant to the proceeding.

(g) To the Department of Justice, including Offices of the U.S. Attorneys, or another Federal agency representing FMCS in pending or potential litigation or proceedings before any court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(h) To any agency, organization, or person for the purposes of performing audit or oversight operations related to the operation of this system of records or for federal ethics compliance purposes as authorized by law, but only information necessary and relevant to such audit or oversight function.

(i) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(j) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(k) To disclose pertinent information to the appropriate Federal, State, or local agency responsible for investigating, prosecuting, enforcing, or implementing a statute, rule regulation or order where the record, either alone or in conjunction with other information creates an indication of a violation or potential violation of civil or criminal laws or regulations.

(l) To disclose information to contractors, grantees, experts, consultants, detailees, and other non-Government employees performing or working on a contract, service, or other assignment for the agency when necessary to accompany an agency function related to this system of records.

(m) To officials of labor organizations and employers receiving services pursuant to 29 U.S.C. 172, et seq.

(n) To officials of labor organizations and federal agencies recognized under 5 U.S.C. chapter 71 upon receipt of a formal request and in accordance with the conditions of 5 U.S.C. 7114 when relevant and necessary to their duties of exclusive representation concerning personnel policies, practices, and matters affecting working conditions.

POLICIES AND PRACTICES FOR STORAGE OF RECORDS:

Records are stored electronically on the public facing website located here. Also, records are stored on FMCS's shared and internal hard drives and on the FMCS's Microsoft Office 365 SharePoint site both accessible only to FMCS employees. Hard copies of photographs are also displayed in FMCS's offices.

POLICIES AND PRACTICES FOR RETRIEVAL OF RECORDS:

Records on the public facing website can be searched by name, geographic district, and zip code. Records on the FMCS's shared and internal drives can be searched by name, and date and name of the event. On SharePoint, records can be searched by the date and name of the event.

POLICIES AND PRACTICES FOR RETENTION AND DISPOSAL OF RECORDS:

Records are updated as needed and retained until no longer needed for business use. All records are retained and disposed of in accordance with General Records Schedule 6.4, issued by the National Archives and Records Administration.

ADMINSTRATIVE, TECHNICAL, AND PHYSICAL SAFEGUARDS:

Electronic records on FMCS's shared and internal drives, and on SharePoint are safeguarded in a secured environment and are maintained in a secure, password-protected electronic system that will utilize commensurate safeguards that may include firewalls, intrusion detection and prevention systems, and role-based access controls. Hard copy records are accessed in FMCS facilities that are limited to authorized personnel with official duties requiring access. FMCS facilities are equipped with security cameras and 24-hour security guard service. These records are kept in limited access areas in locked offices. All records are protected from unauthorized access through appropriate administrative, operational, and technical safeguards. These safeguards include restricting access to authorized personnel who have a “need to know”, using locks, and password protection identification features.

RECORD ACCESS PROCEDURES:

Individuals must provide the following information for their records to be located and identified: (1) Full name, (2) Address, and (3) A reasonably identifying description of the record content requested. Requests can be submitted via fmcs.gov/foia/,via email to privacy@fmcs.gov, or via mail to the Privacy Office at FMCS 250 E Street SW Washington, DC 20427. See 29 CFR 1410.3.

CONTESTING RECORDS PROCEDURES:

Requests for correction or amendment of records, on how to contest the content of any records. Privacy Act requests to amend or correct records may be submitted to the Privacy Office at privacy@fmcs.gov or via mail to the Privacy Office at FMCS 250 E Street SW, Washington, DC 20427. Also, see https://www.fmcs.gov/privacy-policy/. See 29 CFR 1410.6.

NOTIFICATION PROCEDURES:

See 29 CFR 1410.3(a), Individual access requests.

EXEMPTIONS PROMULGATED FOR THE SYSTEM:

None.

HISTORY:

This amended SORN deletes and supersedes the SORN published in the Federal Register on August 19, 2021, at 86 FR 46701.

Dated: May 21, 2024.
Alisa Zimmerman,
Deputy General Counsel, Federal Mediation and Conciliation Service.

[FR Doc. 2024-11544 Filed 5-24-24; 8:45 am]

BILLING CODE 6732-01-P